DEPARTMENT OF DEFENSE

Department of the Air Force

[Docket ID: USAF-2012-0012]

Privacy Act of 1974; System of Records

AGENCY: Department of the Air Force, DoD.

ACTION: Notice to alter a system of records.

SUMMARY: The Department of the Air Force proposes to alter a system of records in its inventory of record systems subject to the Privacy Act of 1974 (5 U.S.C. 552a), as amended. The blanket (k)(1) exemption applies to this systems of records to accurately describe the basis for exempting disclosure of classified information that is or may be contained in the records.

DATES: The proposed action will be effective on August 27, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT. The proposed systems reports, as required by 5 U.S.C. 552a(r) of the Privacy Act, as amended, were submitted on July 12, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: July 23, 2012.
Aaron Siegel,
Alternate OSD Federal Register Liaison Officer, Department of Defense.

F033 AFCA C

SYSTEM NAME:

USAF Information Technology E-Learning System (December 8, 2008, 73 FR 74471).

* * * * *

CHANGES:

SYSTEM ID:

Delete entry and replace with “F033 AFSPC C”.

SYSTEM NAME:

Delete entry and replace with “AF e-Learning System.”

SYSTEM LOCATION:

Delete entry and replace with “Sunguard; 20 Overland Street, Suite A, Boston, MA 02215-3339.”

CATEGORIES OF INDIVIDUALS COVERED BY THE SYSTEM:

Delete entry and replace with “Active duty Air Force military personnel, Air National Guard, Air Force Reserves, Air Force civilian personnel, and contractors.”

CATEGORIES OF RECORDS IN THE SYSTEM:

Delete entry and replace with “Individual's full name, address, telephone number, DoD ID Number, AF Portal ID, student registrations and history of learning assets (courses, test preparations, mentoring, books, skill briefs) accessed and completed and other related documents.”

AUTHORITY FOR MAINTENANCE OF THE SYSTEM:

Delete entry and replace with “10 U.S.C. 8013, Secretary of the Air Force; DoD 8570.01-M, Information Assurance Workforce Improvement Program; and Air Force Instruction 33-115, Volume 2, Licensing Network Users and Certifying Network.”

PURPOSE(S):

Delete entry and replace with “Provides interactive, self-paced, web-based training and reference material anytime, anywhere to user desktops to keep Air Force personnel skilled in the technology and knowledge they need to carry out their missions. It is used as a management tool in support of Air Force information technology training requirements.”

* * * * *

RETRIEVABILITY:

Delete entry and replace with “By individual's full name and/or DoD ID Number.”

SAFEGUARDS:

Delete entry and replace with “Access to the system is restricted through the Air Force Portal reduced sign-on capability. AF e-Learning can only be accessed through the Air Force Portal. Air Force and contract personnel responsible for servicing the record system in performance of their official duties may only access the system by using a unique user name and password. The system is protected by audit logs, virus detection, intrusion detection, firewalls, and encryption of data in transmission. The data center where system area network resides has onsite personnel 24 hours daily; electronic and physical security, video surveillance, and badge-only access. Student data is encrypted from originating source to the system.”

RETENTION AND DISPOSAL:

Delete entry and replace with “Retain file for 10 years after individual completes or discontinues a training course, then destroy.”

SYSTEM MANAGER(S) AND ADDRESS:

Delete entry and replace with “Cyberspace Support Squadron, Training Flight (CYSS/DOT), Attn: Program Manager, Room 2100, 203 West Losey Street, Scott AFB, IL 62225”.

NOTIFICATION PROCEDURE:

Delete entry and replace with “Individuals seeking to determine whether information about themselves is contained in this system should address written inquiries to the Program Manager, Cyberspace Support Squadron, Training Flight (CYSS/DOT), 203 West Losey Street, Scott AFB, IL 62225.

For verification purposes, individuals should provide their full name, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)”.

RECORD ACCESS PROCEDURES:

Delete entry and replace with “Individuals seeking to access records about themselves contained in this system of records should address written inquiries to the Program Manager, Cyberspace Support Squadron, Training Flight (CYSS/DOT), 203 West Losey Street, Scott AFB, IL 62225.

For verification purposes, individuals should provide their full name, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)'.”

* * * * *

RECORD SOURCE CATEGORIES:

Delete entry and replace with “Profile information residing in the Air Force Directory Services system.”

EXEMPTIONS CLAIMED FOR THE SYSTEM:

Delete entry and replace with “An exemption rule for this system has been promulgated in accordance with requirements of 5 U.S.C. 553(b)(1), (2), and (3), and published in 32 CFR 903.1. For additional information contact the system manager.”

[FR Doc. 2012-18263 Filed 7-25-12; 8:45 am]

BILLING CODE 5001-06-P